DEPARTMENT OF HOMELAND SECURITY

Federal Emergency Management Agency

44 CFR Part 65

[Docket ID FEMA-2008-0020]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and Case No. | Date and name of newspaper where notice was published | Chief executive officer of community | Effective date of modification | Community No.
Arizona: Cochise (FEMA Docket No: B-1005) | Unincorporated areas of Cochise County (06-09-B939P) | July 31, 2008, August 7, 2008, Sierra Vista Herald | The Honorable Richard Searle, Chairman, Cochise County Board of Supervisors, 1415 West Melody Lane, Building G, Bisbee, AZ 85603 | September 2, 2008 | 040012
Arizona: Cochise (FEMA Docket No: B-1005) | City of Sierra Vista (06-09-B939P) | July 31, 2008, August 7, 2008, Sierra Vista Herald | The Honorable Bob Strain, Mayor, City of Sierra Vista, 1011 North Coronado Drive, Sierra Vista, AZ 85635 | September 2, 2008 | 040017
Arizona: Pima (FEMA Docket No: B-1005) | Unincorporated areas of Pima County (08-09-0454P) | August 7, 2008, August 14, 2008, The Daily Territorial | The Honorable Richard Elias, Chairman, Pima County Board of Supervisors, 130 West Congress, 11th Floor, Tucson, AZ 85701 | July 21, 2008 | 040073
Arizona: Pima (FEMA Docket No: B-1005) | City of Tucson (08-09-0454P) | August 7, 2008, August 14, 2008, The Daily Territorial | The Honorable Bob Walkup, Mayor, City of Tucson, P.O. Box 27210, Tucson, AZ 85726 | July 21, 2008 | 040076
Arizona: Santa Cruz (FEMA Docket No: B-1011) | Unincorporated areas of Santa Cruz County (07-09-1052P) | September 5, 2008, September 12, 2008, Nogales International | The Honorable Manny Ruiz, Chairman, Santa Cruz County Board of Supervisors, 2150 North Congress Drive, Nogales, AZ 85621 | January 12, 2009 | 040090
Arizona: Yavapai (FEMA Docket No: B-1011) | Unincorporated areas of Yavapai County (08-09-1638P) | September 17, 2008, September 24, 2008, Prescott Daily Courier | The Honorable Chip Davis, Chairman, Yavapai County Board of Supervisors, 1015 Fair Street, Prescott, AZ 86305 | October 6, 2008 | 040093
California: San Bernadino (FEMA Docket No: B-1027) | City of San Bernadino (07-09-1656P) | February 14, 2008, February 21, 2008, San Bernadino County Sun | The Honorable Patrick J. Morris, Mayor, City of San Bernadino, 300 North “D” Street, San Bernardino, CA 92418 | January 31, 2008 | 060281
California: San Diego (FEMA Docket No: B-1008) | Unincorporated areas of San Diego County (08-09-0782P) | August 18, 2008, August 25, 2008, San Diego Union-Tribune | The Honorable Greg Cox, Chairman, San Diego County Board of Supervisors, 1600 Pacific Highway, Room 335, San Diego, CA 92101 | December 23, 2008 | 060284
Colorado: Douglas (FEMA Docket No: B-1015) | Unincorporated areas of Douglas County (08-08-0334P) | September 4, 2008, September 11, 2008, Douglas County News-Press | The Honorable Melanie A. Worley, Chair, Douglas County Board of Commissioners, 100 Third Street, Castle Rock, CO 80104 | January 9, 2008 | 080049
Colorado: Douglas (FEMA Docket No: B-1015) | Unincorporated areas of Douglas County (08-08-0607P) | September 4, 2008, September 11, 2008, Douglas County News-Press | The Honorable Melanie A. Worley, Chairman, Douglas County Board of Commissioners, 100 Third Street, Castle Rock, CO 80104 | August 21, 2008 | 080049
Colorado: Douglas (FEMA Docket No: B-1015) | Town of Parker (08-08-0334P) | September 4, 2008, September 11, 2008, Douglas County News-Press | The Honorable David Casiano, Mayor, Town of Parker, 20120 East Main Street, Parker, CO 80138-7334 | January 9, 2008 | 080310
Colorado: El Paso (FEMA Docket No: B-1008) | City of Colorado Springs (07-08-0958P) | September 2, 2008, September 9, 2008, The Gazette | The Honorable Lionel Rivera, Mayor, City of Colorado Springs, P.O. Box 1575, Colorado Springs, CO 80901 | August 15, 2008 | 080060
Florida: Dixie (FEMA Docket No: B-1027) | Town of Horseshoe Beach (08-04-0954P) (08-04-2115X) | January 31, 2008, February 7, 2008, Dixie County Advocate | The Honorable George T. Kight, Mayor, Town of Horseshoe Beach, P.O. Box 86, Horseshoe Beach, FL 32648 | March 19, 2008 | 120326
Georgia: Athens-Clarke (FEMA Docket No: B-1011) | Unincorporated areas of Athens-Clarke County (08-04-4142P) | September 12, 2008, September 19, 2008, Athens Banner Herald | The Honorable Heidi Davison, Mayor, Athens-Clarke County, 235 Wells Drive, Athens, GA 30606 | August 29, 2008 | 130040
Georgia: DeKalb (FEMA Docket No: B-1011) | Unincorporated areas of DeKalb County (08-04-3686P) | September 18, 2008, September 25, 2008, The Champion | The Honorable Vernon Jones, Chief Executive Officer, DeKalb County, 1300 Commerce Drive, Decatur, GA 30030 | August 29, 2008 | 130065
Georgia: Muscogee County Consolidated Government (FEMA Docket No: B-1023) | City of Columbus—Muscogee County Consolidated Government (08-04-3155P) | May 21, 2008, May 29, 2008, The Columbus Times | The Honorable Jim Wetherington, Mayor, City of Columbus—Muscogee County Consolidated Government, P.O. Box 1340, Columbus, GA 31902 | August 25, 2008 | 135158
Hawaii: Honolulu (FEMA Docket No: B-1027) | City and County of Honolulu (08-09-0558P) | July 14, 2008, July 21, 2008, Honolulu Star Bulletin | The Honorable Mufi Hannemann, Mayor, City and County of Honolulu, 530 South King Street, Room 300, Honolulu, HI 96813 | November 18, 2008 | 150001
Idaho: Blaine (FEMA Docket No: B-1011) | Unincorporated areas of Blaine County (08-10-0169P) | September 17, 2008, September 24, 2008, Idaho Mountain Express | The Honorable Tom Bowman, Chairman, Blaine County Board of Commissioners, 206 First Street South Suite 300, Hailey, ID 83333 | August 29, 2008 | 165167
Illinois: Will (FEMA Docket No: B-1005) | Village of Shorewood (08-05-1099P) | August 12, 2008, August 19, 2008, The Herald News | The Honorable Richard E. Chapman, Village President, Village of Shorewood, One Towne Center Boulevard, Shorewood, IL 60404 | July 31, 2008 | 170712
Maine: Lincoln (FEMA Docket No: B-1015) | Town of Southport (08-01-0451P) | September 18, 2008, September 25, 2008, Boothbay Register | The Honorable Gerald Gamage, First Selectman, Town of Southport, P.O. Box 149, Southport, ME 04576 | August 26, 2008 | 230221
Maine: Waldo (FEMA Docket No: B-1019) | Town of Lincolnville (08-01-0911P) | September 18, 2008, September 25, 2008, The Republican Journal | The Honorable Rosendel Gerry, Selectman, Town of Lincolnville, 493 Hope Road, Lincolnville, ME 04849 | August 29, 2008 | 230172
Massachusetts: Worcester (FEMA Docket No: B-1015) | Town of Westborough (08-01-0865P) | September 16, 2008, September 23, 2008, Worcester Telegram & Gazette | The Honorable George Thompson, Chairman, Town of Westborough, Board of Selectmen, 34 West Main Street, Westborough, MA 01581 | September 26, 2008 | 250344
Mississippi: Madison (FEMA Docket No: B-1019) | Unincorporated areas of Madison County (07-04-5199P) | August 14, 2008, August 21, 2008, Madison County Journal | The Honorable Timothy L. Johnson, President, Madison County Board of Supervisors, P.O. Box 608, Canton, MS 39046 | December 22, 2008 | 280228
Nevada: Clark (FEMA Docket No: B-1015) | Unincorporated areas of Clark County (07-09-0831P) | September 23, 2008, September 30, 2008, Las Vegas Review-Journal | The Honorable Rory Reid, Chair, Clark County Board of Commissioners, 500 South Grand Central Parkway, Las Vegas, NV 89106 | October 14, 2008 | 320003
New Jersey: Passaic (FEMA Docket No: B-1023) | Township of Little Falls (08-02-0616P) | April 4, 2008, April 11, 2008, Herald News | The Honorable Eugene Kulick, Mayor, Township of Little Falls, 225 Main Street, Little Falls, NJ 07424 | August 11, 2008 | 340401
New Mexico: Dona Ana (FEMA Docket No: B-1011) | City of Las Cruces (08-06-1760P) | September 5, 2008, September 12, 2008, Las Cruces Bulletin | The Honorable Ken Miyagishima, Mayor, City of Las Cruces, P.O. Box 20000, Las Cruces, NM 88004 | August 25, 2008 | 355332
North Carolina: Alamance (FEMA Docket No. B-1005) | City of Burlington (07-04-6274P) | August 8, 2008, August 15, 2008, The Times-News | The Honorable Ronnie K. Wall, Mayor, City of Burlington, Municipal Building, P.O. Box 1358, 425 South Lexington Avenue, Burlington, NC 27216 | December 15, 2008 | 370002
North Carolina: Orange (FEMA Docket No.: B-1011) | Orange County (Unincorporated Areas) (08-04-1666P) | August 15, 2008, August 22, 2008, Chapel Hill Herald | Mr. Barry Jacobs, Chair, Board of Commissioners, Orange County, 2105 Moorefields Road, Hillsborough, North Carolina 27278 | December 22, 2008 | 370342
Ohio: Franklin (FEMA Docket No: B-1011) | City of Columbus (07-05-3141P) | August 21, 2008, August 28, 2008, The Columbus Dispatch | The Honorable Michael B. Coleman, Mayor, City of Columbus, 90 West Broad Street, Columbus, OH 43215 | December 26, 2008 | 390170
Ohio: Franklin (FEMA Docket No: B-1011) | Unincorporated areas of Franklin County (07-05-3141P) | August 21, 2008, August 28, 2008, The Columbus Dispatch | The Honorable Mary Jo Kilroy, President, Franklin County Board of Commissioners, 373 South High Street, 26th Floor, Columbus, OH 43215 | December 26, 2008 | 390167
Ohio: Franklin (FEMA Docket No: B-1011) | City of Grove City (07-05-3141P) | August 21, 2008, August 28, 2008, The Columbus Dispatch | The Honorable Richard L. Stage, Mayor, City of Grove City, 4035 Broadway Street, Grove City, OH 43123 | December 26, 2008 | 390173
Oklahoma: Carter (FEMA Docket No: B-1027) | City of Ardmore (08-06-1238P) | July 17, 2008, July 24, 2008, Daily Ardmoreite | The Honorable Martin Dyer, Mayor, City of Ardmore, P.O. Box 249, Ardmore, OK 73402 | November 21, 2008 | 400031
South Carolina: Sumter (FEMA Docket No: B-1015) | Unincorporated areas of Sumter County (08-04-5092P) | September 10, 2008, September 17, 2008, The Item | The Honorable William T. Noonan, Sumter County Administrator, 13 East Canal Street, Sumter, SC 29150 | January 15, 2009 | 450182
Tennessee: Knox (FEMA Docket No: B-1005) | Unincorporated areas of Knox County (08-04-3371P) | August 13, 2008, August 20, 2008, The Knoxville News-Sentinel | The Honorable Mike Ragsdale, Mayor, Knox County, 400 Main Street, Suite 615, Knoxville, TN 37902 | September 2, 2008 | 475433
Texas: Bexar (FEMA Docket No: B-1011) | City of San Antonio (07-06-2565P) | September 5, 2008, September 12, 2008, San Antonio Express News | The Honorable Phil Hardberger, Mayor, City of San Antonio, P.O. Box 839966, San Antonio, TX 78283 | January 12, 2009 | 480045
Texas: Collin (FEMA Docket No: B-1011) | Town of Prosper (08-06-0479P) | September 11, 2008, September 18, 2008, Dallas Morning News | The Honorable Charles Niswanger, Mayor, Town of Prosper, P.O. Box 307, Prosper, TX 75078 | August 29, 2008 | 480141
Texas: Dallas (FEMA Docket No: B-1005) | City of Desoto (08-06-0205P) | August 1, 2008, August 8, 2008, Focus Daily News | The Honorable Bobby Waddle, Mayor, City of Desoto, 211 East Pleasant Run Road, Desoto, TX 75115 | November 28, 2008 | 480172
Texas: Guadalupe (FEMA Docket No: B-1008) | City of Cibolo (08-06-0784P) | August 20, 2008, August 27, 2008, Seguin Gazette-Enterprise | The Honorable Jennifer Hartman, Mayor, City of Cibolo, P.O. Box 826, Cibolo, TX 78108-0826 | December 26, 2008 | 480267
Texas: Palo Pinto and Parker (FEMA Docket No: B-1008) | City of Mineral Wells (08-06-2504P) | September 2, 2008, September 9, 2008, Mineral Wells Index | The Honorable Clarence Holliman, Mayor, City of Mineral Wells, 115 Southwest First Street, Mineral Wells, TX 76067 | January 7, 2009 | 480517
Texas: Tarrant and Denton (FEMA Docket No: B-1011) | City of Fort Worth (08-06-2456P) | September 5, 2008, September 12, 2008, Fort Worth Star-Telegram | The Honorable Mike J. Moncrief, Mayor, City of Fort Worth, 1000 Throckmorton Street, Fort Worth, TX 76102 | August 19, 2008 | 480596
Texas: Tarrant (FEMA Docket No: B-1027) | City of Arlington (07-06-0980P) | March 6, 2008, March 13, 2008, Star Telegram | The Honorable Robert Cluck, M.D., Mayor, City of Arlington, 101 West Abram Street, Arlington, TX 76004-0231 | July 11, 2008 | 485454
Texas: Tarrant (FEMA Docket No: B-1011) | City of Fort Worth (07-06-0534P) | September 5, 2008, September 12, 2008, Fort Worth Star Telegram | The Honorable Mike J. Moncrief, Mayor, City of Fort Worth, 1000 Throckmorton Street, Fort Worth, TX 76102 | January 12, 2009 | 480596
Texas: Tarrant (FEMA Docket No: B-1027) | City of Fort Worth (07-06-0931P) | May 1, 2008, May 8, 2008, Fort Worth Star Telegram | The Honorable Mike J Moncrief, Mayor, City of Fort Worth, 1000 Throckmorton Street, Fort Worth, TX 76102 | April 28, 2008 | 480596
Texas: Tarrant (FEMA Docket No: B-1027) | City of Fort Worth (08-06-0542P) | May 1, 2008, May 8, 2008, Fort Worth Star Telegram | The Honorable Mike J Moncrief, Mayor, City of Fort Worth, 1000 Throckmorton Street, Fort Worth, TX 76102 | September 11, 2008 | 480596
Texas: Tarrant (FEMA Docket No: B-1027) | City of Fort Worth (08-06-1494P) | July 24, 2008, July 31, 2008, Fort Worth Star Telegram | The Honorable Mike J Moncrief, Mayor, City of Fort Worth, 1000 Throckmorton Street, Fort Worth, TX 76102 | November 21, 2008 | 480596
Texas: Tarrant (FEMA Docket No: B-1027) | Unincorporated areas of Tarrant County (08-06-0542P) | May 1, 2008, May 8, 2008, Fort Worth Star Telegram | The Honorable B. Glen Whitley, Tarrant County Judge, 100 East Weatherford Street, Suite 501, Fort Worth, TX 76196 | September 11, 2008 | 480582
Texas: Tarrant (FEMA Docket No: B-1027) | Unincorporated areas of Tarrant County (08-06-1494P) | July 24, 2008, July 31, 2008, Fort Worth Star Telegram | The Honorable Glen Whitley, Tarrant County Judge, 100 East Weatherford, Suite 501, Fort Worth, TX 76196 | November 21, 2008 | 480582
Texas: Webb (FEMA Docket No: B-1023) | City of Laredo (08-06-0322P) | July 4, 2008, July 11, 2008, Laredo Morning Times | The Honorable Raul G. Salinas, Mayor, City of Laredo, 1110 Houston Street, Laredo, TX 78040 | November 10, 2008 | 480651
Utah: Washington (FEMA Docket No: B-1023) | City of St. George (08-08-0509P) | July 3, 2008, July 10, 2008, The Spectrum | The Honorable Daniel D. McArthur, Mayor, City of St. George, 175 East 200 North, St. George, UT 84770 | November 7, 2008 | 490177
Virginia: Fauquier (FEMA Docket No: B-1005) | Unincorporated areas of Fauquier County (08-03-0544P) | August 13, 2008, August 20, 2008, Fauquier Times Democrat | The Honorable Chester Stribling, Chairman, Board of Supervisors, Fauquier County, 10 Hotel Street, Warrenton, VA 20186 | July 31, 2008 | 510055
Virginia: Roanoke (FEMA Docket No: B-1008) | Unincorporated areas of Roanoke County (08-03-0782P) | August 15, 2008, August 22, 2008, The Roanoke Times | The Honorable Richard Flora, Chairman, Roanoke County Board of Supervisors, P.O. Box 29800, Roanoke, VA 24018 | December 22, 2008 | 510190
Washington: King (FEMA Docket No: B-1011) | City of Burien (07-10-0686P) | September 8, 2008, September 15, 2008, The Seattle Times | The Honorable Joan McGilton, Mayor, City of Burien, 15811 Ambaum Boulevard Southwest, Suite C, Burien, WA 98168 | January 13, 2009 | 530321

(Catalog of Federal Domestic Assistance No. 97.022, “Flood Insurance.”)

Dated: February 6, 2009.
Michael K. Buckley,
Acting Assistant Administrator, Mitigation Directorate, Department of Homeland Security, Federal Emergency Management Agency.

[FR Doc. E9-6579 Filed 3-24-09; 8:45 am]

BILLING CODE 9110-12-P